DEPARTMENT OF ENERGY

Notice for Request for Information on Progression to Net-Zero Emission Propulsion Technologies for the Rail Sector; Reopening of Public Comment Period

AGENCY: Office of Energy Efficiency and Renewable Energy, Department of Energy.

ACTION: Request for information; reopening of public comment period.

SUMMARY: The U.S. Department of Energy (DOE) Office of Energy Efficiency and Renewable Energy (EERE) published a request for information (RFI) on November 27, 2023, inviting interested parties to provide input regarding the state of technology on the progression to net-zero emission propulsion technologies for the rail industry. DOE requested public comments by January 12, 2023. DOE received requests for an extension of the public comment period. DOE reviewed the requests and has determined it is necessary and appropriate to reopen the comment period to allow comments to be submitted until February 12, 2024.

DATES: The comment period for the RFI published on November 27, 2023 (88 FR 82870), which closed on January 12, 2024, is reopened. Responses to this RFI must be received no later than February 12, 2024.

ADDRESSES: Interested parties are to submit comments electronically to GreenRail@ee.doe.gov. Include “State of the Rail Industry” in the subject line of the email. Only electronic responses will be accepted. The complete RFI document is located at https://eere-exchange.energy.gov/Default.aspx#FoaIdf0ca0a9f-6e0e-4175-b20a-1bdbb682d705.

FOR FURTHER INFORMATION CONTACT: Questions may be addressed to Ben Simon at GreenRail@ee.doe.gov or 240-562-1591. Further instruction can be found in the RFI document posted on EERE Exchange.

SUPPLEMENTARY INFORMATION: The U.S. National Blueprint for Transportation Decarbonization set the goal to achieve net-zero carbon emissions in the transportation sector—including rail by 2050. This transformation to net-zero emission technologies requires coordination among all aspects of the rail supply chain, including feedstock supply, alternative fuel production, locomotive engine manufacturers, safety implementation, customer demand, and government regulation. To develop a national strategy to decarbonize the rail sector, two critical questions must be addressed:

1—Which alternative rail propulsion technologies are most promising?

2—What is the timeline for the rail sector to transition to net-zero emission technologies?

The purpose of this RFI is to understand what is driving the rail sector towards adopting alternative propulsion technologies, which technologies seem most promising, and what are the key barriers to achieving the transition to net-zero emissions by 2050.

Confidential Business Information: Pursuant to 10 CFR 1004.11, any person submitting information that he or she believes to be confidential and exempt by law from public disclosure should submit via email two well-marked copies: one copy of the document marked “confidential” including all the information believed to be confidential, and one copy of the document marked “non-confidential” with the information believed to be confidential deleted. Submit these documents via email. DOE will make its own determination about the confidential status of the information and treat it according to its determination.

Signing Authority: This document of the Department of Energy was signed on January 11, 2024, by Jeffery Marootian, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 11, 2024.
Treena V. Garrett,
Federal Register Liaison Officer, U.S. Department of Energy.

[FR Doc. 2024-00800 Filed 1-16-24; 8:45 am]

BILLING CODE 6450-01-P